DEPARTMENT OF AGRICULTURE

Commodity Credit Corporation

2004 Dairy Disaster Assistance Payment Program (DDAP)

AGENCY: Commodity Credit Corporation, USDA.

ACTION: Notice and request for comments.

SUMMARY: In accordance with the Paperwork Reduction Act of 1995 the United States Department of Agriculture, Commodity Credit Corporation, is seeking comments from all interested individuals and organizations regarding a new information collection. This collection is necessary to add information collections on a new form that will be used to gather specific information from producers on their dairy production and spoilage losses suffered as a result of the 2004 hurricanes. The information collected will be used to establish eligibility and to determine payment amounts.

DATES: Comments on the information collection requirements in this notice must be received on or before April 18, 2005 to be assured consideration.

FOR FURTHER INFORMATION CONTACT: Comments regarding this information collection requirement may be directed to Danielle Cooke, telephone (202) 720-1919; fax (202) 690-1536; e-mail: Danielle_Cooke@wdc.usda.gov.

SUPPLEMENTARY INFORMATION: Title: 2004 Dairy Disaster Assistance Payment Program.

OMB Number: 0560-NEW.

Type of Request: Request for Approval of a New Information Collection.

Abstract: Dairy operations are eligible to receive direct payments provided they make certifications that attest to their eligibility to receive such payments. As appropriate, these operations must certify, with respect to: (1) The producers in the dairy operation being associated with a dairy farm operation physically located in a county declared a disaster by the President of the United States in 2004 due to hurricanes; (2) the pounds of dairy production losses and dairy spoilage losses incurred as a result of any of the 2004 hurricanes; (3) that they understand the dairy operation must provide adequate proof of monthly milk production commercially marketed by all persons in the dairy operation during the period specified by the Commodity Credit Corporation (CCC) to determine the total pounds of eligible losses incurred by the operation. The information collection will be used by CCC to determine the program eligibility of the dairy operations. CCC considers the information collected essential to prudent eligibility determinations and payment calculations. Additionally, without accurate information on dairy operations, the national payment rate would be inaccurate, resulting in payments being made to ineligible recipients, and the integrity and accuracy of the program could be compromised.

Estimate of Burden: Public reporting burden for this collection of information is estimated to average 10 minutes per response.

Respondents: Dairy Operations.

Estimated Number of Respondents: 3,000.

Estimated Number of Responses per Respondent: 1.

Estimated Total Annual Burden on Respondents: 2,115 hours.

Proposed topics for comment include: (a) Whether the collection of information is necessary for the proper performance of the functions of the agency, including whether the information will have practical utility; (b) the accuracy of the agency's estimate of burden including the validity of the methodology and assumptions used; (c) ways to enhance the quality, utility, and clarity of the information collected; or (d) ways to minimize the burden of the collection of the information on those who are to respond, including through the use of appropriate automated, electronic, mechanical, or other technological collection techniques or other forms of information technology. Comments regarding this information collection requirement may be directed to the Desk Officer for Agriculture, Office of Information and Regulatory Affairs, Office of Management and Budget (OMB), Washington, DC 20503, and to Grady Bilberry, Director, Price Support Division, Farm Service Agency, United States Department of Agriculture, STOP 0512, 1400 Independence Avenue, SW., Washington, DC 20250-0512 or telephone (202) 720-7901. All comments will become a matter of public record.

Signed at Washington, DC, on February 9, 2005.
James R. Little,
Executive Vice President, Commodity Credit Corporation.

[FR Doc. 05-2941 Filed 2-15-05; 8:45 am]

BILLING CODE 3410-05-P